DEPARTMENT OF THE INTERIOR

National Park Service

[N6401; NPS-WASO-NAGPRA-NPS0040773; PPWOCRADN0-PCU00RP14.R50000]

Notice of Intended Repatriation: Autry Museum of the American West, Los Angeles, CA

AGENCY: National Park Service, Interior.

ACTION: Notice.

SUMMARY: In accordance with the Native American Graves Protection and Repatriation Act (NAGPRA), the Autry Museum of the American West (Southwest Museum Collection) intends to repatriate certain cultural items that meet the definition of unassociated funerary objects, sacred objects, and/or objects of cultural patrimony and that have a cultural affiliation with the Indian Tribes or Native Hawaiian organizations in this notice.

DATES: Repatriation of the cultural items in this notice may occur on or after September 4, 2025.

ADDRESSES: Send additional, written requests for repatriation of the cultural items in this notice to Karimah Richardson, M.Phil., RPA, Associate Curator of Anthropology and Repatriation Supervisor, Autry Museum of the American West, 4700 Western Heritage Way, Los Angeles, CA. 90027, email krichardson@theautry.org.

SUPPLEMENTARY INFORMATION: This notice is published as part of the National Park Service's administrative responsibilities under NAGPRA. The determinations in this notice are the sole responsibility of the Autry Museum of the American West, and additional information on the determinations in this notice, including the results of consultation, can be found in the summary or related records. The National Park Service is not responsible for the determinations in this notice.

Abstract of Information Available

A total of 20 lots of cultural items have been requested for repatriation. The 20 unassociated funerary objects are two awls, one blade fragment, two stone points, 10 lots of shell ornaments, one arrow shaft straightener, one lot of soil, one unmodified faunal bone, and two lots of unmodified shell. In 1912 and 1913, Mrs. Ina Sizer Cassidy and her husband Mr. Gerald Cassidy (491.G) collected cultural items from various unknown sites on Anacapa Island, Channel Island, in Ventura County, CA, including their own campsite. Some objects were tagged as being collected from burials while others were classified as funerary objects through consultation. The museum does not have the physical human remains that were found with the cultural items. The Southwest Museum (now part of the Autry Museum of the American West) purchased the cultural items from the Mr. and Mrs. Cassidy in 1940.

A total of two cultural items have been requested for repatriation. The two unassociated funerary objects is two pestles. In the summer of 1937, Mr. Charles S. Thompson (690.G) collected cultural items from Santa Rosa Creek, in San Luis Obispo County, CA. Mr. Thompson donated the cultural items to the Southwest Museum (now part of the Autry Museum of the American West) in 1937.

A total of five cultural items have been requested for repatriation. The five unassociated funerary objects is one basket hopper-mortar, one pestle fragment, one stone anvil and two mano fragments. At an unknown date(s), Mr. Charles Thompson (690.G) collected cultural items from San Luis Obispo County. Only one object was collected from Cambria Pines, while the items were collected from unknown locations. Mr. Thompson donated the cultural items to the Southwest Museum (now part of the Autry Museum of the American West) in 1935.

A total of one cultural item has been requested for repatriation. The one unassociated funerary object is one wedge. The cultural item was collected by the Citizens Committee of Parks, Playgrounds, and Beaches (450.G) sometime between 1927 and 1928 at an unknown site on San Miguel Island, Channel Islands, Santa Barbara County, CA. The executive secretary of the division, Mr. Hugh R. Pomeroy, donated the cultural item to the Southwest Museum (now part of the Autry Museum of the American West) in 1928.

A total of three cultural items have been requested for repatriation. The three unassociated funerary objects are three crescent knives. Between 1877 and 1895, Dr. Frank M. Palmer (2.P), collected cultural items from unknown sites on Santa Cruz Island, Channel Islands, in Santa Barbara County, CA. In 1895, the Southwest Museum purchased the personal collection of Dr. Palmer, their first museum curator.

A total of 11 cultural items have been requested for repatriation. The 11 unassociated funerary objects are 10 crescent knives and one abalone bone pry. Between 1877 and 1895, Dr. Frank M. Palmer (2.P), collected cultural items from unknown sites on Santa Rosa Island, Channel Islands, in Santa Barbara County, CA. In 1895, the Southwest Museum purchased the personal collection of Dr. Palmer, their first museum curator.

A total of one cultural item has been requested for repatriation. The one unassociated funerary object is one pestle. In the late 1870s, Mr. James Wesley Calkin (311.G) collected a cultural item from an unknown location within Santa Barbara County, CA. Mr. Calkin's daughter gifted the collection to the Southwest Museum in 1923.

A total of one cultural item has been requested for repatriation. The one unassociated funerary object is one chopper. At an unknown date, an unknown collector collected the cultural item (18.C.441) from an unknown site in Santa Barbara County, CA. The cultural item was found in collections without an object number. It is unknown when the object came into the Southwest Museum collection or by whom.

A total of four cultural items have been requested for repatriation. The four unassociated funerary objects are two burial markers and two pries. In July 1933, Mr. Howard Arden Edwards (33.F), former staff member, collected cultural items from either Green Harbor or Beecher's Bay on Santa Rosa Island, Channel Islands, Santa Barbara County, CA. Mr. Edwards went to the island with the sponsorship of the Southwest Museum.

A total of 39 lots of cultural items have been requested for repatriation. The 39 lots of unassociated funerary objects are one lot of basketry impressions, five lots of blades, one burin, one lot of cores, one lot of debitage, one disk, one lot of crescent knives, two lots of files, five lots of flakes, one lot of gouges, two lots of knives, one lot of modified faunal bone fragments, one lot of modified fossilized sea urchin spines, one modified stone fragment, one obsidian nodule, one paint pestle, one lot of preforms, one lot of pestles, two lots of point preforms, one lot of polishers, one whale bone rod fragment, three lots of scrapers, one lot of smoothers, one uniface, and two lots of wedge fragments. The cultural items were found in collections without object numbers a box labeled “Channel Islands, Santa Barbara County”. The items most likely were collected before 1906 and came into the Southwest Museum in the late 1890 and early 1900s. Possible collectors are Dr. Frank M. Palmer, Mr. Arthur B. Chappelle, Mr. William Henry Burnham, Dr. Hector Alliot, Rev. Stephen Bowers, Mr. DeMoss Bowers and or the Southwest Museum Expeditions to the Channel Islands.

A total of one sacred object has been requested for repatriation. The one sacred object is a toloache mortar. On an unknown year, an unknown collector collected a toloache mortar from a road near Santa Inez in Santa Barbara County, CA. The item was found during road excavation. Mr. Fred McKinney donated the cultural item to the Southwest Museum in 1958.

Determinations

The Autry Museum of the American West has determined that:

• The 87 lots of unassociated funerary objects described above are reasonably believed to have been placed intentionally with or near individual human remains, and are connected, either at the time of death or later as part of the death rite or ceremony and are believed, by a preponderance of the evidence, to have been removed from a specific burial site of an individual or individuals with cultural affiliation to an Indian Tribe or Native Hawaiian organization.

• The one sacred object described in this notice are specific ceremonial objects needed by a traditional Native American religious leader for present-day adherents to practice traditional Native American religion, according to the Native American traditional knowledge of a lineal descendant, Indian Tribe, or Native Hawaiian organization.

• There is a reasonable connection between the cultural items described in this notice and the Santa Ynez Band of Chumash Mission Indians of the Santa Ynez Reservation, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after September 4, 2025. If competing requests for repatriation are received, the Autry Museum of the American West must determine the most appropriate requestor prior to repatriation. Requests for joint repatriation of the cultural items are considered a single request and not competing requests. The Autry Museum of the American West is responsible for sending a copy of this notice to the Indian Tribes and Native Hawaiian organizations identified in this notice and to any other consulting parties.

Authority: Native American Graves Protection and Repatriation Act, 25 U.S.C. 3004 and the implementing regulations, 43 CFR 10.9.

Dated: July 28, 2025.
Melanie O'Brien,
Manager, National NAGPRA Program.

[FR Doc. 2025-14801 Filed 8-4-25; 8:45 am]

BILLING CODE 4312-52-P